FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, if any, are available for immediate inspection at the Federal Reserve Bank indicated. The applications will also be available for inspection at the offices of the Board of Governors. Interested persons may express their views in writing on the standards enumerated in the BHC Act (12 U.S.C. 1842(c)).

Comments regarding each of these applications must be received at the Reserve Bank indicated or the offices of the Board of Governors, Ann E. Misback, Secretary of the Board, 20th and Constitution Avenue NW, Washington DC 20551-0001, not later than November 13, 2019.

A. Federal Reserve Bank of St. Louis (David L. Hubbard, Senior Manager) P.O. Box 442, St. Louis, Missouri 63166-2034. Comments can also be sent electronically to Comments.applications@stls.frb.org:

1. Central Bancompany, Inc., Jefferson City, Missouri; to acquire Platte County Bancshares, Inc., and thereby indirectly acquire Platte Valley Bank of Missouri, both of Platte City, Missouri.

B. Federal Reserve Bank of Minneapolis (Chris Wangen, Assistant Vice President) 90 Hennepin Avenue, Minneapolis, Minnesota 55480-0291:

1. Keweenaw Financial Corporation, Hancock, Michigan; to merge with North Star Financial Holdings, Inc., and thereby indirectly acquire Main Street Bank, both of Bingham Farms, Michigan.

C. Federal Reserve Bank of New York (Ivan Hurwitz, Senior Vice President) 33 Liberty Street, New York, New York 10045-0001. Comments can also be sent electronically to Comments.applications@ny.frb.org:

1. The Adirondack Trust Company Employee Stock Ownership Trust, Saratoga Springs, New York; to acquire fifty additional voting shares of 473 Broadway Holding Corporation and two thousand additional voting shares of The Adirondack Trust Company, both of Saratoga Springs, New York.

Board of Governors of the Federal Reserve System, October 7, 2019.
Yao-Chin Chao,
Assistant Secretary of the Board.

[FR Doc. 2019-22233 Filed 10-10-19; 8:45 am]

BILLING CODE P